DEPARTMENT OF DEFENSE

Office of the Secretary

Defense Advisory Committee on Investigation, Prosecution, and Defense of Sexual Assault in the Armed Forces; Notice of Federal Advisory Committee Meeting

AGENCY: General Counsel of the Department of Defense (GC(DoD)), Department of Defense (DoD).

ACTION: Notice of Federal advisory committee meeting.

SUMMARY: DoD is publishing this notice to announce that the following Federal advisory committee meeting of the Defense Advisory Committee on Investigation, Prosecution, and Defense of Sexual Assault in the Armed Forces (DAC-IPAD) will occur.

DATES: Tuesday, December 5, 2023—Open to the public from 2:40 p.m. to 4:45 p.m. EST and Wednesday, December 6, 2023—Open to the public from 9:00 a.m. to 2:00 p.m. EST.

ADDRESSES: General Gordon R. Sullivan Conference & Event Center, 2425 Wilson Boulevard, Arlington, Virginia 22201.

FOR FURTHER INFORMATION CONTACT: Designated Federal Officer (DFO), Dwight Sullivan, 703-695-1055 (voice), dwight.h.sullivan.civ@mail.mil (email). Mailing address is DAC-IPAD, One Liberty Center, 875 N Randolph Street, Suite 150, Arlington, Virginia 22203. Website: http://dacipad.whs.mil/. The most up-to-date changes to the meeting agenda can be found on the website.

SUPPLEMENTARY INFORMATION: Due to circumstances beyond the control of the Designated Federal Officer, the Defense Advisory Committee on Investigation, Prosecution, and Defense of Sexual Assault in the Armed Forces was unable to provide public notification required by 41 CFR 102-3.150(a) concerning its December 5-6, 2023 meeting. Accordingly, the Advisory Committee Management Officer for the Department of Defense, pursuant to 41 CFR 102-3.150(b), waives the 15-calendar day notification requirement.

This meeting is being held under the provisions of chapter 10 of title 5, United States Code (U.S.C.) (commonly known as the “Federal Advisory Committee Act” or “FACA”), 5 U.S.C. 552b (commonly known as the “Government in the Sunshine Act”), and 41 Code of Federal Regulations (CFR) 102-3.140 and 102-3.150.

Purpose of the Meeting: In section 546 of the National Defense Authorization Act (NDAA) for Fiscal Year 2015 (Pub. L. 113-291), as modified by section 537 of the NDAA for Fiscal Year 2016 (Pub. L. 114-92), Congress tasked the DAC-IPAD to advise the Secretary of Defense on the investigation, prosecution, and defense of allegations of rape, forcible sodomy, sexual assault, and other sexual misconduct involving members of the Armed Forces. This will be the thirty-second public meeting held by the DAC-IPAD. On Day 1, the DAC-IPAD will deliberate on the draft DAC-IPAD Report on Randomizing Court Martial Panel Member Selection Criteria; will deliberate on the draft Report on Section 549B, FY23 NDAA, regarding Victim Access to Information; will receive an update from the Case Review Subcommittee on the preliminary results of the panel selection data study; will receive a presentation on the current performance metrics proposal for the Offices of Special Trial Counsel; and will receive updates from the Special Projects Subcommittee and the Policy Subcommittee.

Agenda: Day 1: 2:40 p.m.-2:45 p.m. Welcome and Introduction to Public Meeting; 2:45 p.m.-3:45 p.m. DAC-IPAD Deliberations on the Draft DAC-IPAD Report on Randomizing Court-Martial Panel Member Selection; 3:45 p.m.-4:45 p.m. DAC-IPAD Deliberations on the Draft Report on Sec. 549B, FY23 NDAA, regarding Victim Access to Information; 4:45 p.m. Public Meeting Day 1 Adjourned. Day 2: 9:00 a.m.-9:05 a.m. Welcome and Overview of Day 2; 9:05 a.m.-10:25 a.m. Panel Selection Study Update and Discussion; 10:25 a.m.-11:15 a.m. Performance Metrics for the Offices of Special Trial Counsel; 11:15 a.m.-11:30 a.m. Break; 11:30 a.m.-11:45 a.m. Special Projects Subcommittee Update; 11:45 a.m.-12:00 p.m. Policy Subcommittee Update 12:00 p.m.-1:00 p.m. Lunch; 1:00 p.m.-1:30 p.m. Public Comment; 1:30 p.m.-2:00 p.m. Meeting Wrap-Up & Preview of Next Meeting; 2:00 p.m. Public Meeting Day 2 Adjourned.

Meeting Accessibility: Pursuant to 5 U.S.C. 552b and 41 CFR 102-3.140 and 5 U.S.C. 1009(a)(1), the public or interested organizations may submit written comments to the DAC-IPAD about its mission and topics pertaining to this public meeting. Written comments must be received by the DAC-IPAD at least five (5) business days prior to the meeting date so that they may be made available to the DAC-IPAD members for their consideration prior to the meeting. Written comments should be submitted via email to the DAC-IPAD at whs.pentagon.em.mbx.dacipad@mail.mil in the following formats: Adobe Acrobat or Microsoft Word. Please note that since the DAC-IPAD operates under the provisions of the FACA, all written comments will be treated as public documents and will be made available for public inspection.

Written Statements: Pursuant to 41 CFR 102-3.140 and 5 U.S.C. 1009(a)(3), interested persons may submit a written statement to the DAC-IPAD. Individuals submitting a statement must submit their statement no later than 5:00 p.m. EST, Monday, December 4, 2023, to Dwight Sullivan, 703-695-1055 (Voice), 703-693-3903 (Facsimile), dwight.h.sullivan.civ@mail.mil (Email). If a statement pertaining to a specific topic being discussed at the planned meeting is not received by Monday, December 4, 2023, then it may not be provided to, or considered by, the Committee during the December 5-6, 2023, meeting. The DFO will review all timely submissions with the DAC-IPAD Chair and ensure such submissions are provided to the members of the DAC-IPAD before the meeting. Any comments received by the DAC-IPAD prior to the stated deadline will be posted on the DAC-IPAD website (http://dacipad.whs.mil/).

Dated: November 20, 2023.
Aaron T. Siegel,
Alternate OSD Federal Register Liaison Officer, Department of Defense.

[FR Doc. 2023-26108 Filed 11-27-23; 8:45 am]

BILLING CODE 6001-FR-P